DEPARTMENT OF ENERGY

Federal Energy Regulatory Commission

[Docket No. RP01-416-001]

Northwest Pipeline Corporation; Notice of Compliance Filing

July 19, 2001.

Take notice that on July 13, 2001, Northwest Pipeline Corporation (Northwest) tendered for filing an explanation of why the cost sharing mechanism Northwest has proposed in this proceeding is appropriate only when a shipper elects to pay for lateral facilities under a facility surcharge method of reimbursement.

Northwest states that the purpose of this filing is to comply with the Commission's Order Accepting Tariff Sheets Subject to Conditions, issued June 13, 2001 in Docket No. RP01-416-000. Northwest states that it has submitted an explanation of why the cost mechanism proposed by Northwest in this docket is only appropriate when a shipper has elected the facility surcharge method of reimbursement for lateral facilities and not the lump sum payment method.

Northwest states that a copy of this filing has been served upon each person designated on the official service list compiled by the Secretary in this proceeding.

Any person desiring to protest said filing should file a protest with the Federal Energy Regulatory Commission, 888 First Street, NE., Washington, DC 20426, in accordance with Section 385.211 of the Commission's Rules and Regulations. All such protests must be filed on or before July 26, 2001. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-18501 Filed 7-24-01; 8:45 am]

BILLING CODE 6717-01-P